DEPARTMENT OF ENERGY

Federal Energy Regulatory Commission

Combined Notice of Filings

Take notice that the Commission has received the following Natural Gas Pipeline Rate and Refund Report filings:

Filings Instituting Proceedings

Docket Numbers: RP13-405-000.

Applicants: Questar Pipeline Company.

Description: Pt. 1 Sec. 6.17, Request to Acquire Released Capacity, Version 1.0.0 to be effective 1/20/2013.

Filed Date: 12/20/12.

Accession Number: 20121220-5038.

Comments Due: 5 p.m. ET 1/2/13.

Docket Numbers: RP13-406-000.

Applicants: Questar Overthrust Pipeline Company.

Description: Section 31.2, Limits of Segmentation Version 1.0.0 to be effective 1/20/2013.

Filed Date: 12/20/12.

Accession Number: 20121220-5054.

Comments Due: 5 p.m. ET 1/2/13

Docket Numbers: RP13-407-000.

Applicants: Dominion Transmission, Inc.

Description: DTI—December 20, 2012 Negotiated Rate Agreements and Nonconforming SA to be effective 1/1/2013.

Filed Date: 12/20/12.

Accession Number: 20121220-5152.

Comments Due: 5 p.m. ET 1/2/13.

Docket Numbers: RP13-408-000.

Applicants: Energy West Development, Inc.

Description: NAESB Compliance Order No. 587-V CORRECTION to be effective 12/21/2012.

Filed Date: 12/20/12.

Accession Number: 20121220-5243.

Comments Due: 5 p.m. ET 1/2/13.

Docket Numbers: RP13-409-000.

Applicants: First ECA Midstream LLC.

Description: Compliance Filing to be effective 11/29/2012.

Filed Date: 12/20/12.

Accession Number: 20121220-5245.

Comments Due: 5 p.m. ET 1/2/13.

Docket Numbers: RP13-410-000.

Applicants: Alliance Pipeline L.P.

Description: Alliance Pipeline L.P. submits tariff filing per 154.204: Jan 1—31, 2013 Auction to be effective 1/1/2013.

Filed Date: 12/21/12.

Accession Number: 20121221-5089.

Comments Due: 5 p.m. ET 1/2/13.

Docket Numbers: RP13-411-000.

Applicants: Iroquois Gas Transmission System, L.P.

Description: Iroquois Gas Transmission System, L.P. submits tariff filing per 154.204: 12/21/12 Negotiated Rates—Emera Energy Services Incorporated to be effective 12/21/2012.

Filed Date: 12/21/12.

Accession Number: 20121221-5090.

Comments Due: 5 p.m. ET 1/2/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-147-001.

Applicants: WestGas InterState, Inc.

Description: Compliance Filing to be effective 12/1/2012.

Filed Date: 12/20/12.

Accession Number: 20121220-5205.

Comments Due: 5 p.m. ET 1/2/13.

Docket Numbers: RP13-373-002.

Applicants: Cimarron River Pipeline, LLC.

Description: NAESB Version 2.0 Correction to be effective 1/1/2013.

Filed Date: 12/20/12.

Accession Number: 20121220-5082.

Comments Due: 5 p.m. ET 1/2/13.

Docket Numbers: RP13-374-002.

Applicants: Dauphin Island Gathering Partners.

Description: NAESB Version 2.0 Correction to be effective 1/1/2013.

Filed Date: 12/20/12.

Accession Number: 20121220-5083.

Comments Due: 5 p.m. ET 1/2/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 21, 2012.
Nathaniel J. Davis, Sr.,
Deputy Secretary.

[FR Doc. 2012-31381 Filed 12-28-12; 8:45 am]

BILLING CODE 6717-01-P